DEPARTMENT OF COMMERCE

International Trade Administration

[A-570-979, C-570-980]

Crystalline Silicon Photovoltaic Cells, Whether or Not Assembled Into Modules, From the People's Republic of China: Final Results of Changed Circumstances Reviews, and Revocation of the Antidumping and Countervailing Duty Orders, in Part

AGENCY: Enforcement and Compliance, International Trade Administration, Department of Commerce.

SUMMARY: The U.S. Department of Commerce (Commerce) is issuing the final results of changed circumstances reviews (CCRs) of the antidumping duty (AD) and countervailing duty (CVD) orders on crystalline silicon photovoltaic cells, whether or not assembled into modules (solar cells), from the People's Republic of China (China) to revoke the orders, in part, with respect to certain crystalline silicon photovoltaic (CSPV) cells.

DATES: Applicable July 24, 2025.

FOR FURTHER INFORMATION CONTACT: Tyler O'Daniel, Office of Policy, Enforcement and Compliance, International Trade Administration, U.S. Department of Commerce, 1401 Constitution Avenue NW, Washington, DC 20230; telephone: (202) 482-6030.

SUPPLEMENTARY INFORMATION:

Background

On December 7, 2012, Commerce published the AD and CVD orders on solar cells from China.¹ On August 28, 2024, Lutron Electronics Co., Inc. (Lutron), a domestic producer, importer and exporter of subject merchandise, requested that Commerce conduct a changed circumstances reviews (CCRs) to find that it is appropriate to revoke the Orders, in part, with respect to certain small, low-wattage, off-grid (CSPV) cells pursuant to section 751(b)(1) of the Tariff Act of 1930, as amended (the Act), and 19 CFR 351.216(b).² On October 21, 2024, Commerce published the notice of initiation of the requested CCRs.³ In the Initiation Notice, Commerce invited interested parties to provide comments and/or factual information regarding these CCRs, including comments on industry support and the proposed partial revocation language.⁴ We received no comments or factual information.

¹ See Crystalline Silicon Photovoltaic Cells, Whether or Not Assembled Into Modules, from the People's Republic of China: Amended Final Determination of Sales at Less Than Fair Value, and Antidumping Duty Order, 77 FR 73018 (December 7, 2012) (AD Order); see also Crystalline Silicon Photovoltaic Cells, Whether or Not Assembled Into Modules, from the People's Republic of China: Countervailing Duty Order, 77 FR 73017 (December 7, 2012) (CVD Order) (collectively, Orders).

² See Lutron's Letter, “Lutron Electronics Co., Inc.'s Request for Changed Circumstances Reviews and Request to Combine Initiation and Preliminary Results,” dated August 28, 2024 (CCR Request).

³ See Crystalline Silicon Photovoltaic Products, Whether or Not Assembled into Modules, from the People's Republic of China: Notice of Initiation of Changed Circumstances Review, and Consideration of Revocation of the Antidumping Order in Part, 89 FR 84114 (October 21, 2024) (Initiation Notice).

⁴ Id., 89 FR at 84117.

On April 23, 2025, Commerce preliminarily found that producers accounting for substantially all of the domestic production of the products to which the Orders pertain lack interest in the relief provided by the Orders with respect to CSPV cells, and announced its intention to revoke, in part, the Orders with respect to these products.⁵ Commerce provided interested parties with the opportunity to comment and request a public hearing regarding the Preliminary Results.⁶ Commerce did not receive any comments or a request for a hearing from interested parties. As a result, the Preliminary Results are hereby adopted as the final results of this CCR and no decision memoranda accompany this notice.

⁵ Id.

⁶ See Crystalline Silicon Photovoltaic Cells, Whether or Not Assembled Into Modules, from Taiwan: Preliminary Results of Changed Circumstances Reviews, and Intent To Revoke the Antidumping and Countervailing Duty Orders, in Part, 90 FR 17048 (April 23, 2025) (Preliminary Results).

Final Results of Changed Circumstances Reviews and Revocation of the Orders, in Part

In light of Lutron's request, and domestic interested parties' lack of interest in maintaining the Orders with respect to the products under consideration, Commerce continues to find, pursuant to sections 751(d)(1) and 782(h)(2) of the Act and 19 CFR 351.222(g), that changed circumstances exist that warrant revocation of the Orders, in part. No interested party opposed this partial revocation. Moreover, no parties provided other information or evidence that calls into question the partial revocation described in the Preliminary Results. Specifically, because producers accounting for substantially all the production of the domestic like product to which the Orders pertain have not expressed interest in maintaining the relief provided by the Orders with respect to CSPV cells, as described below, Commerce is revoking the Orders, in part, with respect to CSPV cells with the following physical characteristics:

Also excluded from the scope of these Orders are off-grid CSPV panels in rigid form, with or without a glass cover, permanently attached to an aluminum extrusion that is an integral component of an automation device that controls natural light, whether or not assembled into a fully completed automation device that controls natural light, with the following characteristics:

1. A total power output of 20 watts or less per panel;

2. A maximum surface area of 1,000 cm2 per panel;

3. Does not include a built-in inverter for powering third party devices.⁷

⁷ See CCR Request at 3.

The scope description below includes this new exclusion.

Scope of the Orders

The merchandise covered by these Orders is crystalline silicon photovoltaic cells, and modules, laminates, and panels, consisting of crystalline silicon photovoltaic cells, whether or not partially or fully assembled into other products, including, but not limited to, modules, laminates, panels and building integrated materials.

Subject merchandise includes crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Modules, laminates, and panels produced in a third country from cells produced in China are covered by the Orders; however, modules, laminates, and panels produced in China from cells produced in a third country are not covered by the Orders.

Excluded from the scope of the Orders are thin film photovoltaic products produced from amorphous silicon (a-Si), cadmium telluride (CdTe), or copper indium gallium selenide (CIGS).

Also excluded from the scope of the Orders are crystalline silicon photovoltaic cells, not exceeding 10,000 mm2 in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Further, also excluded from the scope of the Orders are panels with surface area from 3,450 mm2 to 33,782 mm2 with one black wire and one red wire (each of type 22 AWG or 24 AWG not more than 206 mm in length when measured from panel extrusion), and not exceeding 2.9 volts, 1.1 amps, and 3.19 watts. For the purposes of this exclusion, no panel shall contain an internal battery or external computer peripheral ports.⁸

⁸ See Initiation Notice, 89 FR at 84117.

Also excluded from the scope of the Orders are:

1. Off grid CSPV panels in rigid form with a glass cover, with the following characteristics:

(A) a total power output of 100 watts or less per panel;

(B) a maximum surface area of 8,000 cm2 per panel;

(C) do not include a built-in inverter;

(D) must include a permanently connected wire that terminates in either an 8 mm male barrel connector, or a two-port rectangular connector with two pins in square housings of different colors;

(E) must include visible parallel grid collector metallic wire lines every 1-4 millimeters across each solar cell; and

(F) must be in individual retail packaging (for purposes of this provision, retail packaging typically includes graphics, the product name, its description and/or features, and foam for transport); and

2. Off grid CSPV panels without a glass cover, with the following characteristics:

(A) a total power output of 100 watts or less per panel;

(B) a maximum surface area of 8,000 cm2 per panel;

(C) do not include a built-in inverter;

(D) must include visible parallel grid collector metallic wire lines every 1-4 millimeters across each solar cell; and

(E) each panel is

1. permanently integrated into a consumer good;

2. encased in a laminated material without stitching, or

3. has all of the following characteristics: (i) the panel is encased in sewn fabric with visible stitching, (ii) includes a mesh zippered storage pocket, and (iii) includes a permanently attached wire that terminates in a female USB-A connector.

In addition, the following CSPV panels are excluded from the scope of the Orders:

1. Off-grid CSPV panels in rigid form with a glass cover, with each of the following physical characteristics, whether or not assembled into a fully completed off-grid hydropanel whose function is conversion of water vapor into liquid water:

(A) A total power output of no more than 80 watts per panel;

(B) A surface area of less than 5,000 cm2 per panel;

(C) Do not include a built-in inverter;

(D) Do not have a frame around the edges of the panel;

(E) Include a clear glass back panel; and

(F) Must include a permanently connected wire that terminates in a two-port rectangular connector.

Modules, laminates, and panels produced in a third country from cells produced in China are covered by the Orders; however, modules, laminates, and panels produced in China from cells produced in a third country are not covered by the Orders.

Additionally excluded from the scope of these Orders are off-grid small portable crystalline silicon photovoltaic panels, with or without a glass cover, with the following characteristics: (1) a total power output of 200 watts or less per panel; (2) a maximum surface area of 16,000 cm2 per panel; (3) no built-in inverter; (4) an integrated handle or a handle attached to the package for ease of carry; (5) one or more integrated kickstands for easy installation or angle adjustment; and (6) a wire of not less than 3 meters either permanently connected or attached to the package that terminates in an 8mm diameter male barrel connector.

Also excluded from the scope of the Orders are off-grid crystalline silicon photovoltaic panels in rigid form with a glass cover, with each of the following physical characteristics, whether or not assembled into a fully completed off-grid hydropanel whose function is conversion of water vapor into liquid water:

(A) A total power output of no more than 180 watts per panel at 155 degrees Celsius;

(B) A surface area of less than 16,000 square centimeters (cm2) per panel;

(C) Include a keep-out area of approximately 1,200 cm2 around the edges of the panel that does not contain solar cells;

(D) Do not include a built-in inverter;

(E) Do not have a frame around the edges of the panel;

(F) Include a clear glass back panel;

(G) Must include a permanently connected wire that terminates in a two-port rounded rectangular, sealed connector;

(H) Include a thermistor installed into the permanently connected wire before the two-port connector; and

(I) Include exposed positive and negative terminals at opposite ends of the panel, not enclosed in a junction box.

Also excluded from the scope of these Orders are off-grid CSPV panels in rigid form, with or without a glass cover, permanently attached to an aluminum extrusion that is an integral component of an automation device that controls natural light, whether or not assembled into a fully completed automation device that controls natural light, with the following characteristics: (1) A total power output of 20 watts or less per panel; (2) A maximum surface area of 1,000 cm2 per panel; (3) Does not include a built-in inverter for powering third party devices.

Merchandise covered by these Orders is currently classified in the Harmonized Tariff System of the United States (HTSUS) under subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, 8507.20.8091, 8541.42.0010, and 8541.43.0010. These HTSUS subheadings are provided for convenience and customs purposes; the written description of the scope of the Orders are dispositive.⁹

⁹ See Orders.

Application of the Final Results of the CCRs

Lutron requested that Commerce apply the final results of these reviews to “all unliquidated entries of the merchandise covered by the revocation that are not covered by the final results of an administrative review or automatic liquidation instruction.” ¹⁰ Section 751(d)(3) of the Act provides that Commerce determine the date of application of the revocation of an order.¹¹ In the Preliminary Results, we stated our intent that “the partial revocation will be retroactively applied to unliquidated entries of merchandise subject to the CCR that were entered or withdrawn from warehouse, for consumption, on or after the day following the last day of the period covered by the most recently completed administrative reviews of the Order, and which are not covered by automatic liquidation,” and invited comments.¹² As explained above, we received no comments opposing the intended retroactive application of the partial revocation. Therefore, Commerce is applying the partial revocation to unliquidated entries of merchandise subject to the CCRs that were entered, or withdrawn from warehouse, for consumption, on or after December 1, 2022 for the AD Order and January 1, 2022 for the CVD Order.

¹⁰ See Initiation Notice, 89 FR at 84117.

¹¹ See section 751(d)(3) of the Act (stating that a “determination under this section to revoke an order or finding or terminate a suspended investigation shall apply with respect to unliquidated entries of the subject merchandise which are entered, or withdrawn from warehouse, for consumption on or after the date determined by the administering authority”).

¹² See Preliminary Results.

Instructions to U.S. Customs and Border Protection CBP

Because we determine that there are changed circumstances that warrant the revocation of the Orders, in part, we will instruct CBP to liquidate without regard to antidumping and countervailing duties, and to refund any estimated antidumping and countervailing duties deposited on all unliquidated entries of the merchandise entered, or withdrawn from warehouse, for consumption on or after December 1, 2022 for the AD Order and January 1, 2022 for the CVD Order, that are covered by this partial revocation of the Orders. Commerce intends to issue instructions to CBP no earlier than 35 days after the date of publication of these final results of CCRs in the Federal Register. If a timely summons is filed at the U.S. Court of International Trade, the instructions will direct CBP not to liquidate relevant entries until the time for parties to file a request for a statutory injunction has expired (i.e., within 90 days of publication).

Administrative Protective Order

This notice serves as a final reminder to parties subject to an administrative protective order (APO) of their responsibility concerning the disposition of proprietary information disclosed under an APO in accordance with 19 CFR 351.305(a)(3). Timely written notification of the return/destruction of APO materials or conversion to a judicial protective order is hereby requested. Failure to comply with the regulations and terms of an APO is a sanctionable violation.

Notification to Interested Parties

We are issuing and publishing the final results of the CCRs in accordance with sections 751(b) and 777(i) of the Act, and 19 CFR 351.216, 19 CFR 351.221(c)(3), and 19 CFR 351.222(g).

Dated: July 18, 2025.
Christopher Abbott,
Deputy Assistant Secretary for Policy and Negotiations, performing the non-exclusive functions and duties of the Assistant Secretary for Enforcement and Compliance.

[FR Doc. 2025-13953 Filed 7-23-25; 8:45 am]

BILLING CODE 3510-DS-P